DEPARTMENT OF THE INTERIOR

Bureau of Land Management

[UT050-1610-012J]

Correction to Notice of Availability of the Draft Resource Management Plan (DRMP) and Draft Environmental Impact Statement (DEIS) for the Richfield Field Office in Garfield, Piute, Sanpete, Sevier, and Wayne Counties, UT (Federal Register: October 26, 2007, Volume 72, Number 207, Page 60879-60881)

AGENCY: Bureau of Land Management, Interior.

ACTION: Correction.

SUMMARY: The following corrections are made: Comments should be sent to the Richfield Field Office. Comments and information submitted on the Richfield Field Office DRMP/DEIS, including names, e-mail addresses, and street addresses of respondents, will be available for public review and disclosure at the Richfield Field Office address listed below. Or, you may contact Cornell Christensen, RMP Project Manager, Richfield BLM Field Office, 150 East 900 North, Richfield, Utah 84701, phone 435-896-1561.

All other information within the Notice of Availability (10/26/07) remains unchanged.

Dated: October 30, 2007.
Kent Hoffman,
Acting Utah State Director.

[FR Doc. 07-5470 Filed 11-02-07; 8:45 am]

BILLING CODE 4310-DK-M